ENVIRONMENTAL PROTECTION AGENCY

40 CFR Part 52

[CA284-0407a; FRL-7577-1]

Revisions to the California State Implementation Plan, Bay Area Air Quality Management District

AGENCY: Environmental Protection Agency (EPA).

ACTION: Direct final rule.

SUMMARY: EPA is taking direct final action to approve revisions to the Bay Area Air Quality Management District(BAAQMD) portion of the California State Implementation Plan (SIP). These revisions concern volatile organic compound (VOC) emissions from solvent and surface cleaning operations during large appliance and metal furniture coating, miscellaneous metal parts coating, plastic parts and products coating, and marine vessel coating. We are approving local rules that regulate these emission sources under the Clean Air Act as amended in 1990 (CAA or the Act).

DATES: This rule is effective on December 29, 2003 without further notice, unless EPA receives adverse comments by December 1, 2003. If we receive such comment, we will publish a timely withdrawal in the Federal Register to notify the public that this rule will not take effect.

ADDRESSES: Mail comments to Andy Steckel, Rulemaking Office Chief (AIR-4), U.S. Environmental Protection Agency, Region IX, 75 Hawthorne Street, San Francisco, CA 94105-3901, or via email at steckel.andrew@epa.gov.

You can inspect copies of the submitted SIP revisions and EPA's technical support documents (TSDs) at our Region IX office during normal business hours. You may also see copies of the submitted SIP revisions at the following locations:

Air and Radiation Docket and Information Center, U.S. Environmental Protection Agency, Room B-102, 1301 Constitution Avenue, NW., (Mail Code 6102T), Washington, DC 20460;

California Air Resources Board, Stationary Source Division, Rule Evaluation Section, 1001 “I” Street, Sacramento, CA 95814; and,

Bay Area Air Quality Management District, 939 Ellis Street, San Francisco, CA 94109.

A copy of the rule may also be available via the Internet at http://www.arb.ca.gov/drdb/drdbltxt.htm. Please be advised that this is not an EPA Web site and may not contain the same version of the rule that was submitted to EPA.

FOR FURTHER INFORMATION CONTACT: Jerald S. Wamsley, EPA Region IX, at (415) 947-4111, or via email at wamsley.jerry@epa.gov.

SUPPLEMENTARY INFORMATION: Throughout this document, “we,” “us” and “our” refer to EPA.

Table of Contents

I. The State's Submittal

A. What rules did the State submit?

B. Are there other versions of these rules?

C. What is the purpose of the submitted rule revisions?

II. EPA's Evaluation and Action

A. How is EPA evaluating the rules?

B. Do the rules meet the evaluation criteria?

C. EPA recommendations to further improve the rules

D. Public comment and final action

III. Stationary and Executive Order Reviews

I. The State's Submittal

A. What Rules Did the State Submit?

Table 1 lists the rules we are approving with the dates that they were adopted by the BAAQMD and submitted by the California Air Resources Board (CARB).

Table 1.—Submitted Rules
Local agency | Rule No. | Rule title | Adopted | Submitted
BAAQMD | 8-14 | Surface Preparation and Coating of Large Appliances and Metal Furniture | 10/16/02 | 04/01/03
BAAQMD | 8-19 | Surface Preparation and Coating of Miscellaneous Metal Parts and Products | 10/16/02 | 04/01/03
BAAQMD | 8-31 | Surface Preparation and Coating of Plastic Parts and Products | 10/16/02 | 04/01/03
BAAQMD | 8-43 | Surface Preparation and Coating of Marine Vessels | 10/16/02 | 04/01/03

On May 13, 2003, EPA made the finding that these rule submittals met the completeness criteria in 40 CFR part 51, appendix V. These criteria must be met before formal EPA review may begin.

B. Are There Other Versions of These Rules?

We approved past versions of these BAAQMD rules into the SIP on December 23, 1997 at 62 FR 66998. Between these SIP incorporations and today, CARB has made no intervening submittals of these rules.

C. What Is the Purpose of the Submitted Rule Revisions?

The amendments to these rules added solvent cleaning provisions to each rule along with complementary changes to the recordkeeping and test method portions of each rule. BAAQMD's amendments to these four rules included these significant changes to the version within the SIP.

—The VOC definition was updated. Also, several new definitions were added such as surface preparation, medical device, and electrical and electronic components.

—Standards for minimizing solvent evaporative loss during clean-up were added along with a requirement that clean-up solvents not exceed 50 grams/liter VOC content.

—Surface preparation standards were added along with a requirement that surface preparation solvents not exceed 50 grams/liter VOC content.

—Record keeping requirements were added for solvents used in clean-up and surface preparation.

—The test method section of the rule was amended to include the clean-up and surface preparation standards.

—A set of test methods, “Analysis of Solvent Samples” and “Analysis of Exempt Compounds” were added.

Also, BAAQMD added limited exemptions for several activities from the solvent cleaning requirements within the rules. These limited exemptions are described below and discussed in more detail later in this rulemaking.

BAAQMD Rule 8-14, Surface Preparation and Coating of Large Appliances and Metal Furniture, is a rule designed to reduce VOC emissions at industrial sites painting and coating these items. VOCs are emitted during the preparation and coating of various substrates, as well as, the drying phase of the coating process. Rule 8-14 contains general and specialty coating VOC emission limits, an abatement device efficiency requirement of 85%, solvent evaporative loss standards, and surface preparation standards. BAAQMD's amendments to Rule 8-14 included these specific limited exemptions.

—A limited exemption was added for the following: (1) Surface preparation of electrical and electronic components, precision optics, and numismatic dies; (2) stripping of cured inks, coatings, and adhesives, cleaning of resin, coating, ink and adhesive mixing, molding and application equipment; and, (3) surface preparation associated with research and development operations, performance testing of coatings, adhesives, or inks, and testing for quality control and quality assurance.

BAAQMD Rule 8-19, Surface Preparation and Coating of Miscellaneous Metal Parts and Products, is a rule designed to reduce VOC emissions at industrial sites engaged in painting and coating various metal parts and products. VOCs are emitted during the preparation and coating of various substrates, as well as, the drying phase of the coating process. Rule 8-19 contains general and specialty coating VOC emission limits, an abatement device efficiency requirement of 85%, solvent evaporative loss standards, and surface preparation standards. BAAQMD's amendments to Rule 8-19 included these specific limited exemptions.

—A limited exemption was added for the following: (1) Surface preparation of electrical and electronic components, precision optics, and numismatic dies; (2) stripping of cured inks, coatings, and adhesives, cleaning of resin, coating, ink and adhesive mixing, molding and application equipment; and, (3) surface preparation associated with research and development operations, medical devices, pharmaceutical manufacturing operations, performance testing of coatings, adhesives, or inks, and testing for quality control and quality assurance.

—A limited exemption from the standards in Section 321 was added for surface preparation of military components which are prepared under a contract that requires the use of a solvent exceeding the requirements in Section 321. Such a contract must be entered into before December 1, 2005.

BAAQMD Rule 8-31, Surface Preparation and Coating of Plastic Parts and Products, is a rule designed to reduce VOC emissions at industrial sites coating or painting plastic substrates. VOCs are emitted during the preparation and coating of various substrates, as well as, the drying phase of the coating process. Rule 8-31 contains general and specialty coating VOC emission limits, an abatement device efficiency requirement of 85%, solvent evaporative loss standards, and surface preparation standards. BAAQMD's amendments to Rule 8-31 included these specific limited exemptions.

—A limited exemption was added for the following: (1) Surface preparation of electrical and electronic components, precision optics, and numismatic dies; (2) stripping of cured inks, coatings, and adhesives, cleaning of resin, coating, ink and adhesive mixing, molding and application equipment; and, (3) surface preparation associated with research and development operations, medical devices, pharmaceutical manufacturing operations, performance testing of coatings, adhesives, or inks, and testing for quality control and quality assurance.

—A limited exemption from the standards in Section 321 was added for surface preparation of military components which are prepared under a contract that requires the use of a solvent exceeding the requirements in Section 321. Such a contract must be entered into before December 1, 2005.

BAAQMD Rule 8-43, Surface Preparation and Coating of Marine Vessels, is a rule designed to reduce VOC emissions at industrial sites engaged in coating and painting marine vessels and associated components. VOCs are emitted during the preparation and coating of various substrates, as well as, the drying phase of the coating process. Rule 8-43 contains general and specialty coating VOC emission limits, an abatement device efficiency requirement of 85%, solvent evaporative loss standards, and surface preparation standards. BAAQMD's amendments to Rule 8-43 included these specific limited exemptions.

—A limited exemption was added for the following: (1) Surface preparation solvent used on surfaces prepared for bonding dissimilar substrates; (2) surface preparation solvent used on gears, turbines, turbine generators and associated housings with faint or working surfaces where surfaces are requried to undergo material testing or application for transfer dyes; (3) electrical and electronic components; and, (4) surface preparation associated with research and development operations, medical devices, pharmaceutical manufacturing operations, and performance testing of coatings, adhesives, or inks, and testing for quality control and quality assurance.

—A limited exemption from the standards in Section 321 was added for surface preparation of military components which are prepared under a contract that requires the use of a solvent exceeding the requirements in Section 321. Such a contract must be entered into before December 1, 2005.

—Section 402, Vessels Subject to Coastwide Bid Petition was deleted.

The TSD for each subject rule has more information.

II. EPA's Evaluation and Action

A. How Is EPA Evaluating the Rules?

Generally, SIP rules must be enforceable (see section 110(a) of the Act), must require Reasonably Available Control Technology (RACT) for major sources in nonattainment areas (see section 182(a)(2)(A)), and must not relax existing requirements (see sections 110(l) and 193). The BAAQMD regulates an ozone nonattainment area (see 40 CFR part 81), so these rules must fulfill RACT.

Guidance and policy documents that we used to help evaluate specific enforceability and RACT requirements consistently include the following items listed below.

1. Portions of the proposed post-1987 ozone and carbon monoxide policy that concern RACT, 52 FR 45044, November 24, 1987.

2. “Issues Relating to VOC Regulation Cutpoints, Deficiencies, and Deviations,” EPA, May 25, 1988 (the Bluebook).

3. “Guidance Document for Correcting Common VOC & Other Rule Deficiencies,” EPA Region 9, August 21, 2001 (the Little Bluebook).

4. “Control of Volatile Organic Emissions from Existing Stationary Sources Volume III: Surface Coating of Metal Furniture,” USEPA, December 1977, EPA-450/2-77-032.

5. “Control of Volatile Organic Emissions from Existing Stationary Sources Volume V: Surface Coating of Large Appliances,” USEPA, December 1977, EPA-450/2-77-034.

6. “Control of Volatile Organic Emissions from Existing Stationary Sources Volume VI: Surface Coating of Miscellaneous Metal Parts and Products,” USEPA, June 1978, EPA-450/2-78-015.

7. Alternative Control Technique Document: Surface Coating of Automotive/Transportation and Business Machine Plastic Parts (EPA 453/R-94-017, 2/94).

8. “Control Techniques Guidelines (CTG) for Shipbuilding and Ship Repair Operations (Surface Coating),” USEPA, 61 Federal Register 44050-44057, August 27, 1996.

B. Do the Rules Meet the Evaluation Criteria?

We believe these rules are consistent with the relevant policy and guidance regarding enforceability, RACT, and SIP relaxations. The emissions allowed by the limited exemptions within these rules are outweighed by the emission reductions generated by each rule. BAAQMD staff provided the following supporting rationale for the limited exemptions: (1) Some solvent cleaning is idiosyncratic to the ink, coating, or adhesive being removed and could not be achieved without considering their formulation; (2) these surface preparation and cleaning solvents are used in very small amounts; (3) a specific clean-up solvent or surface preparation agent is either required, or has no workable substitute given the specific task at hand. Overall, these amendments to these Regulation 8 rules will result in a VOC emission reduction of 2.2 tons per day including the emission effects of the limited exemptions (note that 1.7 tons per day of these emission reductions are derived from Rule 8-4, adopted simultaneously with these other rules).

The subject TSD has more information on our evaluation each rule.

C. EPA Recommendations to Further Improve the Rules

We have no additional rule revisions that do not affect EPA's current action but are recommended for the next time the local agency modifies the rules.

D. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by December 1, 2003, we will publish a timely withdrawal in the Federal Register to notify the public that the direct final approval will not take effect and we will address the comments in a subsequent final action based on the proposal. If we do not receive timely adverse comments, the direct final approval will be effective without further notice on December 29, 2003. This will incorporate these rules into the federally enforceable SIP. Please note that if EPA receives adverse comment on an amendment, paragraph, or section of this rule and if that provision may be severed from the remainder of the rule, EPA may adopt as final those provisions of the rule that are not the subject of an adverse comment.

III. Stationary and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 29, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: October 6, 2003.
Laura Yoshii,
Acting Regional Administrator, Region IX.

Part 52, Chapter I, Title 40 of the Code of Federal Regulations is amended as follows:

PART 52—[AMENDED]

1. The authority citation for part 52 continues to read as follows:

Authority: 42 U.S.C. 7401 et seq.

Subpart F—California

2. Section 52.220 is amended by adding paragraph (c)(315)(i)(A)(2) to read as follows:

§ 52.220 Identification of plan.

* * * * *

(c) * * *

(315) * * *

(i) * * *

(A) * * *

(2) Rule 8-14 adopted on March 7, 1979 and amended on October 16, 2002; Rule 8-19 adopted on January 9, 1980 and amended on October 16, 2002; Rule 8-31 adopted on September 7, 1983 and amended on October 16, 2002; and, Rule 8-43 adopted on November 23, 1988 and amended on October 16, 2002.

* * * * *

[FR Doc. 03-27267 Filed 10-29-03; 8:45 am]

BILLING CODE 6560-50-P